DEPARTMENT OF TRANSPORTATION

Surface Transportation Board

[Docket No. FD 35831 (Sub-No. 1)]

Grainbelt Corporation—Trackage Rights Exemption—BNSF Railway Company and Stillwater Central Railroad, LLC

AGENCY: Surface Transportation Board, DOT.

ACTION: Partial revocation of exemption.

SUMMARY: Under 49 U.S.C. 10502, the Board partially revokes the class exemption as it pertains to the trackage rights described in Docket No. FD 35831 ¹ to permit the trackage rights to expire on February 1, 2023, in accordance with the agreements of the parties, subject to the employee protective conditions set forth in Oregon Short Line Railroad—Abandonment Portion Goshen Branch Between Firth & Ammon, in Bingham & Bonneville Counties, Idaho, 360 I.C.C. 91 (1979).

¹ In that docket, on May 27, 2014, Grainbelt Corporation (GNBC) filed a verified notice of exemption under the Board's class exemption procedures at 49 C.F.R. 1180.2(d)(7). The notice addressed agreements in which BNSF Railway Company (BNSF) and Stillwater Central Railroad, LLC, f/k/a Stillwater Central Railroad, Inc. (SLWC) each agreed to grant amended trackage rights to GNBC, which together will allow GNBC to provide local service to a grain shuttle facility in Eldorado, Okla. (between Altus and Quanah). Specifically, BNSF has amended its trackage rights with GNBC to permit local service over the connecting line between the connection with SLWC east of Long (milepost 668.73) and Quanah (milepost 723.30). SLWC has amended its trackage rights with GNBC to permit local service between Snyder Yard (milepost 664.00) and its connection with BNSF east of Long (milepost 668.73). Grainbelt Corp.—Trackage Rights Exemption—BNSF Ry. & Stillwater Cent. R.R., FD 35831 (STB served June 12, 2014).

DATES: This decision is effective on September 24, 2014. Petitions to stay must be filed by September 4, 2014. Petitions for reconsideration must be filed by September 15, 2014.

ADDRESSES: Send an original and 10 copies of all pleadings, referring to Docket No. FD 35831 (Sub-No. 1) to: Surface Transportation Board, 395 E Street SW., Washington, DC 20423-0001. In addition, a copy of each pleading must be served on Eric M. Hocky, Clark Hill, PLC, One Commerce Square, 2005 Market Street, Suite 1000, Philadelphia, PA 19103.

FOR FURTHER INFORMATION CONTACT: Valerie Quinn, (202) 245-0382. [Assistance for the hearing impaired is available through the Federal Information Relay Service (FIRS) at (800) 877-8339.]

SUPPLEMENTARY INFORMATION: Additional information is contained in the Board's decision. Board decisions and notices are available on our Web site at “WWW.STB.DOT.GOV.”

Decided: August 20, 2014.
By the Board, Chairman Elliott, Vice Chairman Miller, and Commissioner Begeman.
Jeffrey Herzig,
Clearance Clerk.

[FR Doc. 2014-20141 Filed 8-22-14; 8:45 am]

BILLING CODE 4915-01-P